ENVIRONMENTAL PROTECTION AGENCY

[EPA-HQ-OAR-2006-0740; FRL-8288-9]

Agency Information Collection Activities; Submission to OMB for Review and Approval; Comment Request; Information Requirements for Importation of Nonconforming Vehicles (Renewal); EPA ICR No. 0010.11, OMB Control No. 2060-0095

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before April 18, 2007.

ADDRESSES: Submit your comments, referencing Docket ID No. EPA-HQ-OAR-2006-0740, to (1) EPA online using www.regulations.gov (our preferred method), or by mail to: EPA Docket Center, Environmental Protection Agency, Air and Radiation Docket, Mailcode 6102T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Lynn Sohacki, Compliance and Innovative Strategies Division, Office of Transportation and Air Quality, Environmental Protection Agency, 2000 Traverwood, Ann Arbor, Michigan 48105; telephone number: 734-214-4851; fax number: 734-214-4869; e-mail address: sohacki.lynn@epa.gov.

SUPPLEMENTARY INFORMATION: EPA has submitted the following ICR to OMB for review and approval according to the procedures prescribed in 5 CFR 1320.12. On September 14, 2006 (71 FR 54280), EPA sought comments on this ICR pursuant to 5 CFR 1320.8(d). EPA received no comments during the comment period. Any additional comments on this ICR should be submitted to EPA and OMB within 30 days of this notice.

EPA has established a public docket for this ICR under Docket ID No. EPA-HQ-OAR-2006-0740, which is available for online viewing at www.regulations.gov, or in person viewing at the Air Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Information Requirements for Importation of Nonconforming Vehicles (Renewal).

ICR numbers: EPA ICR No. 0010.11, OMB Control No. 2060-0095.

ICR Status: This ICR is scheduled to expire on March 31, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Importers into the U.S. of light duty vehicles, light duty trucks, and on road motorcycles, or the corresponding engines, are required to report and keep records regarding the imports. The collection of this information is mandatory to insure compliance with Federal emissions requirements. Joint EPA and U.S. Customs Service regulations at 40 CFR 85.1501 et seq., 19 CFR part 1273, and 19 CFR part 1774, promulgated under the authority of Clean Air Act sections 203 and 208, give authority for the collection of this information. The information is used by program personnel to ensure that all federal emissions requirements are met, and by state regulatory agencies, businesses, and individuals to verify whether vehicles are in compliance. Any information submitted to the Agency for which a claim of confidentiality is made is safeguarded according to policies set forth in title 40, chapter 1, part 2, subpart B—Confidentiality of Business Information (see 40 CFR part 2), and the public is not permitted access to information containing personal or organizational identifiers.

Burden Statement: The annual public reporting and recordkeeping burden for this collection of information is estimated to average 0.83 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Importers (including Independent Commercial Importers) of light duty vehicles or engines, light duty trucks or engines, and highway motorcycles or engines.

Estimated Number of Respondents: 12,005.

Frequency of Response: On occasion.

Estimated Total Annual Hour Burden: 10,216.

Estimated Total Annual Cost Burden: $1,169,545, including $736,000 in annualized capital costs, $1,780 in O&M costs, and $431,765 in labor costs.

Changes in the Estimates: There is a decrease of 5,584 hours in the total estimated burden currently identified in the OMB Inventory of Approved ICR Burdens. This decrease is due to use of revised estimates, based on actual counts, of the number of import forms submitted. There is a decrease in O&M costs of $1,264,220 and an increase in annualized capital costs of $736,000. These changes are due to the following: (1) The labor burden of recordkeeping has been adjusted and costed for the first time. These replace an O&M cost per form in the prior estimate. (2) The number of EPA Form 3520-8s has been increased from 200 to 352. The number of EPA Form 3520-1s has been reduced from 20,000 to 12,000 based on a better estimate due to the availability of a logged database. (The prior renewal listed 13,000 respondents filing 11,200 responses.) (3) The testing cost is modified to distinguish the different testing requirements for the two different classes of ICIs. (4) An O&M and a capital cost are assigned to the testing requirement, consistent with other certification ICRs, namely the EPA ICR 0783 series and (5) This testing O&M cost replaces a $660,000 O&M expense that was in the prior renewal.

Dated: March 12, 2007.
Oscar Morales,
Director, Collection Strategies Division.

[FR Doc. E7-4929 Filed 3-16-07; 8:45 am]

BILLING CODE 6560-50-P